DEPARTMENT OF HEALTH AND HUMAN SERVICES

Centers for Disease Control and Prevention

Delivering Environmental Health Services

Announcement Type: New.

Funding Opportunity Number: 04113.

Catalog of Federal Domestic Assistance Number: 93.283.

Key Dates:

Letter of Intent Deadline: April 29, 2004.

Application Deadline: June 1, 2004.

I. Funding Opportunity Description

Authority: Section 301 and 317 of the Public Health Service Act, [42 U.S.C., section 241 and 247(b)], as amended.

Purpose: This program announcement is for state and local public health departments, and tribal health agencies to implement or expand, and evaluate their environmental public health activities built on a framework that is based on the Ten Essential Public Health Services, the Ten Essential Environmental Services, Core Competencies of Effective Practice of Environmental Health (See Addendum), and CDC's A National Strategy to Revitalize Environmental Public Health Services, published September, 2003. (See: http://www.cdc.gov/nceh/ehs/Docs/NationalStrategy2003.pdf) This program addresses the “Healthy People 2010” focus area of environmental health, public health infrastructure, and education and community-based programs.

Measurable outcomes of the program will be in alignment with the following performance goal for the National Center for Environmental Health (NCEH): Increase the capacity of state, local, tribal and territorial health departments to deliver environmental health services to their communities.

Activities:

Awardees activities for this program are as follows:

• Implement a comprehensive environmental health services program built on the framework of the Ten Essential Public Health Services, the Ten Essential Environmental Services, Core Competencies of Effective Practice of Environmental Health, and CDC's A National Strategy to Revitalize Environmental Public Health Services;

• Implement interventions to address environmental issues related to delivering an environmental health service (i.e. air, water, waste management, integrated pest management/vector control, and food). Interventions for up to two of the five environmental health service areas may be addressed in the proposal.

• Demonstrate the ability to improve the environmental health of the community through the development, reorganization, or expansion of the delivery of environmental health services utilizing a systems-based problem solving approach to disease outbreaks and/or exposure investigation.

• Integrate and/or coordinate the delivery of environmental health services with other health department units (e.g., epidemiology, chronic disease, laboratory, etc.), state agencies, governmental agencies, and community-based organizations.

• Develop and implement an evaluation program to measure capacity building outcomes and demonstrate the effectiveness of interventions developed to enhance the delivery of environmental health services.

• Develop partnerships with academic institutions such as accredited environmental health programs or schools of public health to assist and support environmental research or program evaluation, if necessary.

• Utilize resources available through the CDC's Environmental Health Services Program to assist in fulfilling the requirements of this cooperative agreement.

• Analyze, document and disseminate findings.

In a cooperative agreement, CDC staff is substantially involved in the program activities, above and beyond routine grant monitoring.

CDC Activities for this program are as follows:

• Provide technical assistance and consultation to the award recipient to refine the project plan, data and information collection, and analysis instruments.

• Support systems-approach planning.

• Review the use of data and information collection resources and analysis instruments.

• Assist awardees with background information and in forming collaborative interactions.

• Assist awardees with preparation, review and clearance of manuscripts.

• Evaluate effectiveness and quality of environmental health services related to awardees activities.

II. Award Information

Type of Award: Cooperative Agreement.

CDC involvement in this program is listed in the Activities Section above.

Fiscal Year Funds: 2004.

Approximate Total Funding: $1,400,000.

Approximate Number of Awards: 7-14.

Approximate Average Award: $100,000—$200,000.

(This amount is for the first 12-month budget period, and includes both direct and indirect costs.)

Floor of Award Range: None.

Ceiling of Award Range: $200,000.

Anticipated Award Date: September 1, 2004.

Budget Period Length: 12 months.

Project Period Length: Three years.

Throughout the project period, CDC's commitment to continuation of awards will be conditioned on the availability of funds, evidence of satisfactory progress by the recipient (as documented in required reports), and the determination that continued funding is in the best interest of the Federal Government.

III Eligibility Information

III.1. Eligible Applicants

Applications may be submitted by governments and their agencies, such as:

• Federally recognized Indian tribal governments

• Indian tribes

• Indian tribal organizations

• State and local governments or their Bona Fide Agents (this includes the District of Columbia, the Commonwealth of Puerto Rico, the Virgin Islands, the Commonwealth of the Northern Marianna Islands, American Samoa, Guam, the Federated States of Micronesia, the Republic of the Marshall Islands, and the Republic of Palau)

• Political subdivisions of States (in consultation with States)

A Bona Fide Agent is an agency/organization identified by the state as eligible to submit an application under the state eligibility in lieu of a state application. If you are applying as a bona fide agent of a state or local government, you must provide a letter from the state as documentation of your status. Place this documentation behind the first page of your application form.

III.2. Cost Sharing or Matching

Matching funds are not required for this program.

III.3. Other Eligibility Requirements

If you request a funding amount greater than the ceiling of the award range, your application will be considered non-responsive and will not be entered into the review process. You will be notified that your application did not meet the submission requirements.

This announcement is for submission of proposals that are not research. If your application contains research, it will be considered non-responsive to the announcement.

If your application is incomplete or non-responsive to the requirements listed below, it will not be entered into the review process. You will be notified that your application did not meet the submission requirements.

Note: Title 2 of the United States Code section 1611 states that an organization described in section 501(c)(4) of the Internal Revenue Code that engages in lobbying activities is not eligible to receive Federal funds constituting an award, grant, or loan.

IV. Application and Submission Information

IV.1. Address To Request Application Package

To apply for this funding opportunity use application form PHS 5161. Application forms and instructions are available on the CDC Web site, at the following Internet address: http://www.cdc.gov/od/pgo/forminfo.htm.

If you do not have access to the Internet, or if you have difficulty accessing the forms on-line, you may contact the CDC Procurement and Grants Office Technical Information Management Section (PGO-TIM) staff at: 770-488-2700. Application forms can be mailed to you.

IV.2. Content and Form of Submission

Letter of Intent (LOI)

Your LOI must be written in the following format:

• Maximum number of pages: One page.

• Font size: 12-point unreduced.

• Single spaced.

• Paper size: 8.5 by 11 inches.

• Page margin size: One inch.

• Printed only on one side of page.

• Written in plain language, avoid jargon.

Your LOI must contain the following information:

• Name, address, and telephone number for key contact.

• Brief description of the proposed project.

Application: You must include a project narrative with your application forms. Your narrative must be submitted in the following format:

• Maximum number of pages: 25

If your narrative exceeds the page limit, only the first pages which are within the page limit will be reviewed.

• Font size: 12 point unreduced.

• Single spaced.

• Paper size: 8.5 by 11 inches.

• Page margin size: One inch.

• Printed only on one side of page.

• Held together only by rubber bands or metal clips; not bound in any other way.

Your narrative should address activities to be conducted over the entire project period, and must include the following items in the order listed:

• Describe the applicant's agency and its position within the governmental structure.

• Describe how the project will be administered, including job descriptions for all projects positions.

• Describe the project's operational plan to address an environmental health services issue(s) and simultaneously implement activities necessary to enhance the overall capacity of the environmental health services program. The operational plan should include the following components: (1) Description of an identified environmental health issue(s) “ i.e. water quality, air quality, food safety, vector control, etc; or the current state of the environment health services program in the community; (2) description of assessment activities used to determine or identify the environmental issue or current state of the program; (3) description of the proposed intervention to address the environmental health issue or activities to enhance the capacity of the environmental health program; (4) description of the use or integration of the ten essential environmental health services and core competencies to address the issue(s); (5) integration of intra and interdepartmental state and local partnerships with accredited academic institutions and/or other environmental health programs for assistance and support, if necessary; (6) long and short range objectives, timelines and schedules for completion, and expected long and short range measurable outcomes; and (7) description of the methodology for sustainability efforts of the activities or interventions supported by this cooperative agreement beyond the funded three year period.

• Describe the project's evaluation plan to measure the process and outcomes. The evaluation plan should address measures for both short-term or intermediate outcomes, and long term outcomes. Short-term or intermediate outcomes may relate to specific activities and/or processes. Long term outcomes should focus on the (1) reduction of environmentally related risk factors known to contribute to disease, and/or (2) the impact on incidence and prevalence of environmentally induced illness and disease; and (3) a decrease in morbidity and mortality related to environmental causes or incidents.

• Budget Justifications.

Additional information may be included in the application appendices. The appendices will not be counted toward the narrative page limit. This additional information includes:

• Up to 30 pages of appendices may be included in the application. This may include: Curriculum Vitaes, Resumes, Organizational Charts, Letters of Support, etc.

You are required to have a Dun and Bradstreet Data Universal Numbering System (DUNS) number to apply for a grant or cooperative agreement from the Federal government. The DUNS number is a nine-digit identification number, which uniquely identifies business entities. Obtaining a DUNS number is easy and there is no charge. To obtain a DUNS number, access http://www.dunandbradstreet.com or call 1-866-705-5711.

For more information, see the CDC Web site at: http://www.cdc.gov/od/pgo/funding/pubcommt.htm. If your application form does not have a DUNS number field, please write your DUNS number at the top of the first page of your application, and/or include your DUNS number in your application cover letter.

Additional requirements that may require you to submit additional documentation with your application are listed in section “VI.2. Administrative and National Policy Requirements.”

IV.3. Submission Dates and Times

LOI Deadline Date: April 29, 2004.

CDC requests that you send a LOI if you intend to apply for this program. Although the LOI is not required, not binding, and does not enter into the review of your subsequent application, the LOI will be used to gauge the level of interest in this program, and to allow CDC to plan the application review.

Application Deadline Date: June 1, 2004.

Explanation of Deadlines: Applications must be received in the CDC Procurement and Grants Office by 4:00 p.m. Eastern Time on the deadline date. If you send your application by the United States Postal Service or commercial delivery service, you must ensure that the carrier will be able to guarantee delivery of the application by the closing date and time. If CDC receives your application after closing due to: (1) carrier error, when the carrier accepted the package with a guarantee for delivery by the closing date and time, or (2) significant weather delays or natural disasters, you will be given the opportunity to submit documentation of the carriers guarantee. If the documentation verifies a carrier problem, CDC will consider the application as having been received by the deadline.

This program announcement is the definitive guide on application submission address and deadline. It supersedes information provided in the application instructions. If your application does not meet the deadline above, it will not be eligible for review, and will be discarded. You will be notified that your application did not meet the submission requirements.

CDC will not notify you upon receipt of your application. If you have a question about the receipt of your application, first contact your courier. If you still have a question, contact the PGO-TIM staff at: 770-488-2700. Before calling, please wait two to three days after the application deadline. This will allow time for applications to be processed and logged.

IV.4. Intergovernmental Review of Applications

Executive Order 12372 does not apply to this program.

IV.5. Funding Restrictions

Funding restrictions, which must be taken into account while writing your budget, are as follows: None.

If you are requesting indirect costs in your budget, you must include a copy of your indirect cost rate agreement. If your indirect cost rate is a provisional rate, the agreement should be less than 12 months of age.

Guidance for completing your budget can be found on the CDC Web site, at the following Internet address: http://www.cdc.gov/od/pgo/funding/budgetguide.htm.

IV.6. Other Submission Requirements

LOI Submission Address: Submit your LOI by express mail, delivery service, fax, or E-mail to: Daneen Farrow-Collier, CDC/NCEH, 4770 Buford Highway, F-28, Atlanta, GA 30341, Telephone: 770-488-4945, Fax: 770-488-7310, E-mail: farrow-collier@cdc.gov.

Application Submission Address: Submit the original and two hard copies of your application by mail or express delivery service to: Technical Information Management-PA #04113, CDC Procurement and Grants Office, 2920 Brandywine Road, Atlanta, GA 30341.

Applications may not be submitted electronically at this time.

V. Application Review Information

V.1. Criteria

You are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation.

Your application will be evaluated against the following criteria:

1. Understanding of the Problem (25 Points)

Does the applicant understand the public health, social and economic consequences of the inadequate environmental health service in their community based upon health and demographic indicators? Are the needs based on disease burden by age, gender and racial/ethnic groups, mortality rates, incidence, program experience, existing capacity, and infrastructure?

2. Objectives and Methods (25 points)

a. Has the applicant developed sound, feasible objectives that are consistent with the activities described in this announcement, and are specific, measurable and time-framed?

b. Does the applicant describe the specific activities and methods to achieve each objective?

c. Are the proposed timeline and schedules feasible? The timeline should include a tentative work plan for the duration of the project.

d. Can the proposed activities or the project be sustained beyond the funded period?

e. Can the intent and desired outcomes for the proposed activities be succinctly stated?

3. Program Evaluation (20 points)

a. The evaluation plan should describe useful and appropriate strategies and approaches to monitor and improve the quality, effectiveness, and efficiency of the project.

b. Does the applicant propose to measure the process and the overall impact of the project in terms of its contribution to improving the delivery of environmental health services? This may be evidenced by the reduction of environmentally related risk factors known to contribute to disease; decrease in morbidity and mortality; and/or the impact on incidence and prevalence of environmentally induced illness and disease.

4. Implementation of CDC's Strategy To Revitalize Environmental Public Health Services (10 points)

Has the applicant's operation plan incorporated components of CDC's Strategy to Revitalize Environmental Public Health Services into developing an intervention or enhancing capacity? Specifically, does the plan implement all ten of the essential environmental health services into the project?

5. Coordination and Collaboration (10 points)

Has the applicant involved collaborators as a resource in the implementation of the project? This includes describing its relationship with other health department components and governmental agencies, academia, and community-based organizations as evidenced by letters of support, memoranda of agreement, and other documented evidence. The applicants may include up to ten letters of commitment (dated within the last three months) from key partners, participants, and community leaders that detail their participation in and support of the proposed activities.

6. Project Management and Staffing (10 points)

Does the applicant document skills, abilities, and experiences of key health department staff who will be responsible for developing, implementing, and carrying out the requirements of the project? Specifically, the applicant should describe health department staff roles in the development and implementation of the project, their specific responsibilities, and their level of effort and time commitment. Applicants should provide assurances that those positions to be filled by the applicant's personnel system will be done within a reasonable time after receiving funds.

7. Budget Justification (Not Scored)

Is the budget clearly explained, adequately justified, and reasonable and consistent with the stated objectives and planned activities?

V.2. Review and Selection Process

Applications will be reviewed for completeness by the Procurement and Grants Office (PGO) staff and for responsiveness by NCEH. Incomplete applications and applications that are non-responsive to the eligibility criteria will not advance through the review process. Applicants will be notified that their application did not meet submission requirements.

An objective review panel will evaluate complete and responsive applications according to the criteria listed in the “V.1. Criteria” section above.

V.3. Anticipated Announcement Award Date

September 1, 2004.

VI. Award Administration Information

VI.1. Award Notices

Successful applicants will receive a Notice of Grant Award (NGA) from the CDC Procurement and Grants Office. The NGA shall be the only binding, authorizing document between the recipient and CDC. The NGA will be signed by an authorized Grants Management Officer, and mailed to the recipient fiscal officer identified in the application.

Unsuccessful applicants will receive notification of the results of the application review by mail.

VI.2. Administrative and National Policy Requirements

45 CFR Part 74 and Part 92

For more information on the Code of Federal Regulations, see the National Archives and Records Administration at the following Internet address: http://www.access.gpo.gov/nara/cfr/cfr-table-search.html.

The following additional requirements apply to this project:

• AR-2 Requirements for Inclusion of Women and Racial and Ethnic Minorities in Research

• AR-8 Public Health System Reporting Requirements

• AR-10 Smoke-Free Workplace Requirements

• AR-11 Healthy People 2010

• AR-12 Lobbying Restrictions

• AR-14 Accounting System Requirements

• AR-20 Conference Support

• AR-21 Small, Minority, and Women-Owned Business

• AR-22 Research Integrity

• AR-23 States and Faith-Based Organizations

• AR-25 Release and Sharing of Data

Additional information on these requirements can be found on the CDC Web site at the following Internet address: http://www.cdc.gov/od/pgo/funding/ARs.htm.

VI.3. Reporting Requirements

You must provide CDC with an original, plus two hard copies of the following reports:

1. Interim progress report, no less than 90 days before the end of the budget period. The progress report will serve as your non-competing continuation application, and must contain the following elements:

a. Current Budget Period Activities Objectives.

b. Current Budget Period Financial Progress.

c. New Budget Period Program Proposed Activity Objectives.

d. Detailed Line-Item Budget and Justification.

e. Additional Requested Information.

f. Measures of Effectiveness.

2. Financial status report and annual progress report, no more than 90 days after the end of the budget period.

3. Final financial and performance reports, no more than 90 days after the end of the project period.

These reports must be sent to the Grants Management Specialist listed in the “Agency Contacts” section of this announcement.

VII. Agency Contacts

For general questions about this announcement, contact: Technical Information Management Section, CDC Procurement and Grants Office, 2920 Brandywine Road, Atlanta, GA 30341, Telephone: 770-488-2700.

For program technical assistance, contact:

Daneen Farrow-Collier, Project Officer, CDC/NCEH, 4770 Buford Highway, Atlanta, GA 30341, Telephone: 770-488-4945, Fax: 770-488-7310, E-mail: dfarrow-collier@cdc.gov.

For budget assistance, contact: Mildred Garner, Grants Management Specialist, CDC Procurement and Grants Office, 2920 Brandywine Road, Atlanta, GA 30341, Telephone: 770-488-2745, E-mail: mgarner@cdc.gov.

Dated: March 24, 2004.
Edward Schultz,
Acting Director, Procurement and Grants Office, Centers for Disease Control and Prevention.

[FR Doc. 04-7023 Filed 3-29-04; 8:45 am]

BILLING CODE 4163-18-P